DEPARTMENT OF COMMERCE

National Oceanic and Atmospheric Administration

[I.D. 030404G]

Fisheries Off West Coast States and in the Western Pacific; Pacific Coast Groundfish Fishery; Application for an Exempted Fishing Permit

AGENCY: National Marine Fisheries Service (NMFS), National Oceanic and Atmospheric Administration (NOAA), Commerce.

ACTION: Notice of the receipt of an exempted fishing permit (EFP) application; announcement of the intent to issue the EFP; request for comments.

SUMMARY: NMFS announces the receipt of an application, and the intent to issue EFPs for vessels participating in an observation program to monitor the incidental take of salmon and groundfish in the shore-based component of the Pacific whiting fishery. The EFPs are necessary to allow trawl vessels fishing for Pacific whiting to delay sorting their catch, and thus to retain prohibited species and groundfish in excess of cumulative trip limits until the point of offloading. These activities are otherwise prohibited by Federal regulations.

DATES: Comments must be received by March 29, 2004. The EFPs will be effective no earlier than April 1, 2004, and will expire no later than May 31, 2005, but could be terminated earlier under terms and conditions of the EFPs and other applicable laws.

ADDRESSES: Send comments or request for copies of the EFP application to Becky Renko, Northwest Region, NMFS, 7600 Sand Point Way N.E., Bldg. 1, Seattle, WA 98115 0070 or email EFPwhiting2004.nwr@noaa.gov. Comments sent via email, including all attachments, must not exceed a 10 megabyte file size.

FOR FURTHER INFORMATION CONTACT: Becky Renko or Carrie Nordeen at (206) 526 6150.

SUPPLEMENTARY INFORMATION: This action is authorized by the Magnuson-Stevens Fishery Conservation and Management Act provisions at 50 CFR 600.745 which states that EFPs may be used to authorize fishing activities that would otherwise be prohibited. At the November 2003 Pacific Fishery Management Council (Council) meeting in Del Mar, California, NMFS received an application for these EFPs from the States of Washington, Oregon, and California. An opportunity for public testimony was provided during the Council meeting. The Council recommended that NMFS issue the EFPs, as requested by the States.

Issuance of these EFPs, to about 40 vessels, will continue an ongoing program to collect information on the incidental catch of salmon and groundfish in whiting harvests delivered to shore-based processing facilities by domestic trawl vessels. Because whiting deteriorates rapidly, it must be handled quickly and immediately chilled to maintain the quality. As a result, many vessels dump catch directly or near directly into the hold and are unable to effectively sort their catch.

The issuance of EFPs will allow vessels to delay sorting of groundfish catch in excess of cumulative trip limits and prohibited species until offloading. These activities are otherwise prohibited by regulation. For 2004, video cameras that are provided by NMFS, will be used to monitor full retention at sea. Information gathered from video cameras may be used to assess the effectiveness of video monitoring for full retention monitoring programs.

Delaying sorting until offloading will allow samplers located at the processing facilities to collect incidental catch data for total catch estimates and will enable whiting quality to be maintained. Without an EFP, groundfish regulations at 50 CFR 660.306(b) require vessels to sort their prohibited species catch and return them to sea as soon as practicable with minimum injury. Similarly, regulations at 50 CFR 660.306(f) prohibit the retention of groundfish in excess of the published trip limits.

In addition to providing information that will be used to monitor the attainment of the shore-based whiting allocation, information gathered through these EFPs is expected to be used in a future rulemaking. For 2005, NMFS intends to implement, through federal regulation, a monitoring program for the shore-based Pacific whiting fleet. The Council recommended using EFPs only until a permanent monitoring program can be developed and implemented. NMFS is developing a preliminary draft Environmental Assessment which includes a range of alternative monitoring systems for the shore-based Pacific whiting fishery. At its September 2003 meeting, the Council considered a preliminary range of alternatives for a monitoring program which focus on three major issues: (1) the monitoring program (i.e., federal observers, state monitors, video cameras, or a combination thereof); (2) tracking and disposition of prohibited species and groundfish overages; and (3) mechanisms for funding of the monitoring program. At its April 2004 meeting, the Council is expected to adopt a revised range of alternatives for public review that cover these same issues. At its September 2004 meeting, the Council is expected to make final recommendations to NMFS regarding this monitoring program. NMFS will then prepare a proposed rule, that will include a public comment period, followed by a final rule implementing a monitoring program before the start of the 2005 shore-based primary Pacific whiting season.

Authority: 16 U.S.C. 1801 et seq.

Dated: March 8, 2004.
Peter H. Fricke,
Acting Director, Office of Sustainable Fisheries, National Marine Fisheries Service.

[FR Doc. 04-5694 Filed 3-11-04; 8:45 am]

BILLING CODE 3510-22-S